DEPARTMENT OF JUSTICE

Antitrust Division

Notice Pursuant to the National Cooperative Research and Production Act of 1993—Cooperative Research Group on Development of a Predictive Model for Corrosion-Fatigue of Materials in Sour Environment

Notice is hereby given that, on May 17, 2011, pursuant to Section 6(a) of the National Cooperative Research and Production Act of 1993, 15 U.S.C. 4301 et seq. (“the Act”), Southwest Research Institute—Cooperative Research Group on Development of a Predictive Model for Corrosion-Fatigue of Materials in Sour Environment (“Model-CFM”) has filed written notifications simultaneously with the Attorney General and the Federal Trade Commission disclosing (1) The identities of the parties to the venture and (2) the nature and objectives of the venture. The notifications were filed for the purpose of invoking the Act's provisions limiting the recovery of antitrust plaintiffs to actual damages under specified circumstances.

Pursuant to Section 6(b) of the Act, the identities of the parties to the venture are: Chevron U.S.A. Inc., Energy Technology Co., Houston, TX; ExxonMobil Upstream Research Co., Houston, TX; Petrobras, Rio de Janeiro, BRAZIL; Tubas De Acero De Mexico S.A., Veracruz, MEXICO; and Vallourec Mannesmann Oil & Gas France, Aulnoye-Aymeries, FRANCE. The general area of Model-CFM's planned activity is to develop an analytical/computational model and associated fundamental experiment that will enable the prediction of corrosion-fatigue performance of material-environment systems of technological interest to the oil and gas industry. To maximize the model's applicability and robustness, it will be (1) Based on scientific principles, (2) informed by fundamental electrochemical experiments to capture the key material-environment interactions, and (3) validated against critical experiments, including long-duration experiments that are currently being performed in parallel, complimentary projects.

Patricia A. Brink,
Director of Civil Enforcement, Antitrust Division.

[FR Doc. 2011-16633 Filed 7-6-11; 8:45 am]

BILLING CODE 4410-11-M